DEPARTMENT OF LABOR

Employment and Training Administration

Agency Information Collection Activities: Revision and Extension of a Currently Approved Information Collection; Comment Request

AGENCY: Employment and Training Administration, Labor.

ACTION: Notice.

SUMMARY: The Department of Labor (Department), as part of its continuing effort to reduce paperwork and respondent burden, is conducting a pre-clearance consultation to provide the general public and Federal agencies with an opportunity to comment on a continuing collection of information in accordance with the Paperwork Reduction Act (PRA) of 1995 [44 U.S.C. 3506(c)(2)(A)]. This consultation is undertaken to ensure that requested data can be provided in the desired format, reporting burden (time and financial resources) is minimized, collection instruments are clearly understood, and the impact of collection requirements on respondents can be properly assessed. Currently, the Employment and Training Administration is soliciting comments concerning the extension of the approval for information collection involving the ETA Form 9089, OMB Control No. 1205-0451, Application for Permanent Employment Certification, which expires on June 30, 2011. A copy of the information collection request (ICR) can be obtained by contacting the office listed below in the addressee section of this notice.

DATES: Written comments must be submitted to the office listed in the addressee section below on or before March 14, 2011.

ADDRESSES: William L. Carlson, Administrator, Office of Foreign Labor Certification, U.S. Department of Labor, Room C4312, 200 Constitution Ave., NW., Washington, DC 20210. Phone (202) 693-3010 (This is not a toll-free number), fax (202) 693-2768, or e-mail at ETA.OFLC.Forms@dol.gov subject line: ETA Form 9089.

SUPPLEMENTARY INFORMATION:

I. Background

The information collection is required by sections 203(b)(3) and 212(a)(5)(A) of the Immigration and Nationality Act (INA) (8 U.S.C. 1153(b)(3) and 1182(a)(5)(A)). The Department and the Department of Homeland Security (DHS) have promulgated regulations to implement the INA. Specifically for this collection, the regulations at 20 CFR 656 and 8 CFR 204.5 (the regulations) are applicable. Section 212(a)(5)(A) of the INA mandates the Secretary of Labor to certify that any alien seeking to enter the United States for the purpose of performing skilled or unskilled labor is not adversely affecting wages and working conditions of U.S. workers similarly employed and that there are not sufficient U.S. workers able, willing, and qualified to perform such skilled or unskilled labor. Before any employer may request any skilled or unskilled alien labor, it must submit a request for certification to the Secretary of Labor containing the elements prescribed by the INA and the regulations. The regulations require employers to document their recruitment efforts and to substantiate the reasons no U.S. workers were hired.

II. Review Focus

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In order to meet its statutory responsibilities under the INA, the Department needs to extend an existing collection of information pertaining to employers seeking to apply for labor certifications to allow them to bring foreign workers to the United States on a permanent basis. The information collection consists of the current form used by all employers and a modified form, previously approved by OMB, but never implemented by the Department. Once the Department completes building the electronic filing and case management system required to support the modified form, the current form will become obsolete and the modified form will become operative. At this time, the Department is not requesting that any substantive changes be made to either form.

In the past the respondents have been for-profit businesses, not-for-profit institutions, individuals, households, and farms. On rare occasions the respondents have been local, state, tribal governments, or the federal government.

The Secretary of Labor uses the collected information to determine if allowing an alien to enter the United States for the purpose of performing skilled or unskilled labor will adversely affect wages and working conditions of U.S. workers similarly employed and whether or not there were sufficient U.S. workers able, willing, and qualified to perform such skilled or unskilled labor at the time of the application.

Type of Review: Revision and Extension of Currently Approved Information Collection.

Agency: Employment and Training Administration.

Title: Application for Permanent Employment Certification.

OMB Control No.: 1205-0451.

Agency Number(s): Form ETA 9089.

Recordkeeping: On occasion.

Affected Public: Businesses or other for-profits and not-for profits, individuals or households, farms, and Federal, State, Local or Tribal Governments.

Total Respondents: 94,600.

Estimated Total Burden Hours: 223,331.

Total Burden Cost (capital/startup): 0.

Total Burden Cost (operating/maintaining): $750,000.

Comments submitted in response to this comment request will be summarized and/or included in the request for Office of Management and Budget approval of the information collection request; they also will become a matter of public record.

Dated: January 5, 2011.
Jane Oates,
Assistant Secretary, Employment and Training Administration.

[FR Doc. 2011-471 Filed 1-11-11; 8:45 am]

BILLING CODE 4510-FP-P